DEPARTMENT OF THE TREASURY

Office of Foreign Assets Control

Sanctions Actions Pursuant to Executive Order 13224

AGENCY: Office of Foreign Assets Control, Treasury.

ACTION: Notice.

SUMMARY: The Treasury Department's Office of Foreign Assets Control (OFAC) is removing the name of 1 individual and 8 entities, whose property and interests in property were blocked pursuant to E.O.13224, from the list of Specially Designated Nationals and Blocked Persons (SDN List).

DATES: OFAC's actions described in this notice were effective February 26, 2015.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treas.gov/ofac). Certain general information pertaining to OFAC's sanctions programs is also available via facsimile through a 24-hour fax-on-demand service, tel.: 202/622-0077.

Notice of OFAC Actions

On February 26, 2015, OFAC removed the following 1 individual and 8 entities from the SDN List.

Individuals

1. NADA, Youssef (a.k.a. NADA, Youssef M.; a.k.a. NADA, Youssef Mustafa), Via Per Arogno 32, Compione d'Italia CH-6911, Switzerland; Via Arogno 32, Compione d'Italia CH-6911, Italy; Via Riasc 4, Compione d'Italia CH-6911, Switzerland; DOB 17 May 1931; alt. DOB 17 May 1937; POB Alexandria, Egypt; citizen Tunisia (individual) [SDGT].

Entities

1. ASAT TRUST REG., Altenbach 8, Vaduz 9490, Liechtenstein [SDGT].

2. BA TAQWA FOR COMMERCE AND REAL ESTATE COMPANY LIMITED (n.k.a. HOCHBURG, AG), Vaduz, Liechtenstein; formerly c/o Asat Trust reg., Vaduz, Liechtenstein [SDGT].

3. BANK AL TAQWA LIMITED (a.k.a. AL TAQWA BANK; a.k.a. BANK AL TAQWA), P.O. Box N-4877, Nassau, Bahamas, The; c/o Arthur D. Hanna & Company, 10 Deveaux Street, Nassau, Bahamas, The [SDGT].

4. NADA INTERNATIONAL ANSTALT, Vaduz, Liechtenstein; formerly c/o Asat Trust reg., Vaduz, Liechtenstein [SDGT].

5. NADA MANAGEMENT ORGANIZATION SA (f.k.a. AL TAQWA MANAGEMENT ORGANIZATION SA), Viale Stefano Franscini 22, Lugano CH-6900 TI, Switzerland [SDGT].

6. WALDENBERG, AG (f.k.a. AL TAQWA TRADE, PROPERTY AND INDUSTRY; f.k.a. AL TAQWA TRADE, PROPERTY AND INDUSTRY COMPANY LIMITED; f.k.a. AL TAQWA TRADE, PROPERTY AND INDUSTRY ESTABLISHMENT; f.k.a. HIMMAT ESTABLISHMENT), c/o Asat Trust Reg., Altenbach 8, Vaduz 9490, Liechtenstein; Via Posero, 2, Compione d'Italia 22060, Italy [SDGT].

7. YOUSSEF M. NADA, Via Riasc 4, Campione d'Italia I CH-6911, Switzerland [SDGT].

8. YOUSSEF M. NADA & CO. GESELLSCHAFT M.B.H. (a.k.a. YOUSSEF M. NADA AND CO. GESELLSCHAFT M.B.H.), Kaernter Ring 2/2/5/22, Vienna 1010, Austria [SDGT].

All property and interests in property of the individual and entities that are in or hereafter come within the United States or the possession or control of United States persons are now unblocked.

Dated: February 26, 2015.
John E. Smith,
Acting Director, Office of Foreign Assets Control.

[FR Doc. 2015-05771 Filed 3-12-15; 8:45 am]

BILLING CODE 4810-AL-P